DEPARTMENT OF HOMELAND SECURITY

Federal Emergency Management Agency

[Docket ID FEMA-2007-0008]

National Advisory Council; Meeting

AGENCY: Federal Emergency Management Agency, Department of Homeland Security.

ACTION: Committee Management; Notice of open Federal Advisory Committee meeting.

SUMMARY: The Federal Emergency Management Agency's National Advisory Council (NAC) will meet on October 25-27, 2022. The meeting will be open to the public through virtual means.

DATES: The NAC will meet from 8:30 a.m. to 3:30 p.m. Central Time (CT) on Tuesday, October 25, 2022; from 8:30 a.m. to 5:30 p.m. CT on Wednesday, October 26, 2022; and from 10:00 a.m. to 12:00 p.m. CT on Thursday, October 27, 2022. Please note that the meeting will pause for breaks and may end early any day on which the NAC has completed its business.

ADDRESSES: Anyone who wishes to participate in the NAC meeting must register with FEMA in advance by providing their name, official title, organization, telephone number, and email address to the person listed in the FOR FURTHER INFORMATION CONTACT section below by 5:00 p.m. CT on Friday, October 21, 2022. Members of the public are urged to provide written comments on the issues to be considered by the NAC. The topic areas are indicated in the SUPPLEMENTARY INFORMATION section below. Any written comments must be submitted by 5:00 p.m. CT on Friday, October 21, 2022, identified by Docket ID FEMA-2007-0008, and submitted via the Federal eRulemaking Portal at http://www.regulations.gov, following the instructions for submitting comments below.

Instructions for Submitting Comments: All submissions must include the words “Federal Emergency Management Agency” and the docket number (Docket ID FEMA-2007-0008) for this action. Comments received, including any personal information provided, will be posted without alteration at http://www.regulations.gov. For access to the docket or to read comments received by the NAC, go to http://www.regulations.gov, and search for Docket ID FEMA-2007-0008.

Opportunities for public comments, limited to one minute and directed to the current topic, will be offered by the Designated Federal Officer during meeting discussions on Tuesday, October 25, 2022, from 10:00 a.m. to 3:00 p.m. CT, and Thursday, October 27, 2022, from 10:00 a.m. to 12:00 p.m. CT. An open public comment period is available on Wednesday, October 26, 2022, from 5:00 p.m. to 5:15 p.m. CT. All speakers must register in advance of the meeting to make remarks during the public comment period and must limit their comments to three minutes. Comments should be addressed to the NAC. Any comments unrelated to the agenda topics will not be considered. To register to make remarks during the public comment period, contact the person listed in the FOR FURTHER INFORMATION CONTACT section below by 5:00 p.m. CT on Friday, October 21, 2022. Please note that the public comment period may end before the time indicated, following the last call for comments.

The NAC is committed to ensuring all participants have equal access regardless of disability status. If you require a reasonable accommodation due to a disability to fully participate, please contact the individual listed in the FOR FURTHER INFORMATION CONTACT section below as soon as possible and no later than October 18, 2022. Last-minute requests will be considered but may not be possible to fulfill.

FOR FURTHER INFORMATION CONTACT: Rob Long, Designated Federal Officer, Office of the National Advisory Council, Federal Emergency Management Agency, 500 C Street SW, Washington, DC 20472-3184, 202-716-4612, FEMA-NAC@fema.dhs.gov. The NAC website is https://www.fema.gov/about/offices/national-advisory-council.

SUPPLEMENTARY INFORMATION: Notice of this meeting is given under the Federal Advisory Committee Act, 5 U.S.C. Appendix.

The NAC advises the FEMA Administrator on all aspects of emergency management. The NAC incorporates input from state, local, tribal, and territorial (SLTT) governments, and the private sector in the development and revision of FEMA plans and strategies. The NAC includes a cross-section of officials, emergency managers, and emergency response officials from SLTT governments, the private sector, and nongovernmental organizations.

Agenda: On Tuesday, October 25, 2022, NAC subcommittees will present to the full NAC their draft annual recommendations regarding the 2022-2026 FEMA Strategic Plan goals and objectives. The NAC 2022 Draft Recommendations will be available one week prior to this meeting for public review at https://www.fema.gov/about/offices/national-advisory-council. On Wednesday, October 26, 2022, the NAC will meet with FEMA leadership in the morning and, in the afternoon, host panel discussions on inter-governmental relationships and challenges with emergency management from the perspectives of Tribal Nations in FEMA Region 6. On Thursday, October 27, 2022, the NAC will vote on the adoption of the NAC 2022 Draft Recommendations.

The full agenda and any related documents for this meeting will be available at https://www.fema.gov/about/offices/national-advisory-council on Tuesday, October 18, 2022, or by contacting the person listed in the FOR FURTHER INFORMATION CONTACT section above.

Deanne Criswell,
Administrator, Federal Emergency Management Agency.

[FR Doc. 2022-22020 Filed 10-7-22; 8:45 am]

BILLING CODE 9111-48-P